DEPARTMENT OF COMMERCE

Submission for OMB Review; Comment Request

The Department of Commerce has submitted to the Office of Management and Budget (OMB) for clearance the following proposal for collection of information under the provisions of the Paperwork Reduction Act (44 U.S.C. Chapter 35).

AGENCY: National Institute of Standards and Technology (NIST).

Title: Advanced Technology Program (ATP) Business Reporting System (BRS).

Form Number(s): None.

OMB Approval Number: 0693-0009.

Type of Review: Regular submission.

Burden Hours: 600.

Number of Respondents: 150.

Average Hours Per Response: 4.

Needs and Uses: The Advanced Technology Program (ATP) is a competitive cost-sharing program designed to assist United States businesses pursue high-risk, enabling technologies with significant commercial/economic potential. The ATP provides multi-year funding through the use of cooperative agreements to single companies and to industry-led joint ventures. Once a cooperative agreement is issued, recipients are required to complete project surveys to meet statutory requirements for ATP, as well as compliance with 15 CFR Part 14 and the Government Performance and Results Act.

Affected Public: Business or other for-profit organizations, and not-for profit institutions.

Frequency: Quarterly, Annually, and On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5167, or Jasmeet_K._Seehra@omb.eop.gov).

Dated: October 6, 2006.
Gwellnar Banks,
Management Analyst, Office of the Chief Information Officer.

[FR Doc. E6-16991 Filed 10-12-06; 8:45 am]

BILLING CODE 3510-13-P